DEPARTMENT OF LABOR

Employment and Training Administration

Investigations Regarding Eligiblity To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of May 1, 2022, through May 31, 2022.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,282 | Autoline Industries Indiana LLC, D/B/A CJ Automotive Indiana LLC | Butler, IN | 5/2/2022
98,283 | Honeywell Safety Products USA, Inc | Franklin, PA | 5/3/2022
98,284 | Syncreon | Belvidere, IL | 5/4/2022
98,285 | Adient | Sycamore, IL | 5/5/2022
98,286 | Dometic Corporation | LaGrange, IN | 5/6/2022
98,287 | Wells Fargo Call Center | Salem, OR | 5/6/2022
98,288 | Avaya Inc | Thornton, CO | 5/9/2022
98,289 | Stryker | Lakeland, FL | 5/9/2022
98,290 | Terex | Westport, CT | 5/9/2022
98,291 | Peloton Interactive Inc | Dayton, OH | 5/10/2022
98,292 | RegalRexnord (MCS) | Monticello, IN | 5/11/2022
98,293 | Serta Simmons Bedding/SSB Manufacturing | Houston, TX | 5/11/2022
98,294 | EuropTec USA Inc | Clarksburg, WV | 5/12/2022
98,295 | Fluid Routing Solutions, LLC | Big Rapids, MI | 5/12/2022
98,296 | Mueller Brass Company | Belding, MI | 5/12/2022
98,297 | Logan Glass Plant | Logan, OH | 5/13/2022
98,298 | MityLite | Lawrenceburg, TN | 5/17/2022
98,299 | The Sweetwater Company Inc. dba EartH2o | Culver, OR | 5/17/2022
98,300 | Stanley Black & Decker Inc | New Britain, CT | 5/18/2022
98,301 | PPG Industries, Inc | Lafayette, IN | 5/19/2022
98,302 | DHL Supply Chain | Mount Clemens, MI | 5/20/2022
98,303 | Norgren GT Development, LLC | Auburn, WA | 5/20/2022
98,304 | AECOM Technical Services Inc | Denver, CO | 5/23/2022
98,305 | Home Products International-North America, Inc | Chicago, IL | 5/24/2022
98,306 | Nokia of America Corporation | Carrollton, TX | 5/24/2022
98,307 | TSK Innovations Co | El Paso, TX | 5/24/2022
98,308 | Taskus USA, LLC | New Braunfels, TX | 5/25/2022
98,309 | Arrow Electronics Inc | Centennial, CO | 5/26/2022
98,310 | DAT Freight and Analytics | Beaverton, OR | 5/27/2022
98,311 | EJ Welch | Austell, GA | 5/27/2022
98,312 | KPMG LLP | Montvale, NJ | 5/31/2022
98,313 | TE Connectivity | Andover, MN | 5/31/2022
98,314 | Sears & Kmart Transform Holdco, LLC | Hoffman Estates, IL | 5/31/2022

A record of these investigations and petitions filed are available, subject to redaction, on the Department's website https://www.dol.gov/agencies/eta/tradeact under the searchable listing or by calling the Office of Trade Adjustment Assistance toll free at 888-365-6822.

Signed at Washington, DC, this 3rd day of June 2022.
Hope D. Kinglock,
Certifying Officer, Office of Trade Adjustment Assistance.

[FR Doc. 2022-12806 Filed 6-13-22; 8:45 am]

BILLING CODE 4510-FN-P